DEPARTMENT OF JUSTICE

Office of Justice Programs

[OMB Number: 1121-0260]

Agency Information Collection Activities: Reinstatement With Change of a Previously Approved Collection; Proposed Collection: Comments Requested

Action: 60-Day Notice of Information Collection Under Review: Police Public Contact Survey.

The Department of Justice (DOJ), Office of Justice Programs (OJP), Bureau of Justice Statistics (BJS), will be submitting the following information collection request to the Office of Management Budget (OMB) for review and clearance in accordance with the Paperwork Reduction Act of 1995. This proposed information collection is published to obtain comments from the public and affected agencies. Comments are encouraged and will be accepted for “sixty days” until March 29, 2011. This process is conducted in accordance with 5 CFR 1320.10.

If you have comments especially on the estimated public burden or associated response time, suggestions, or need a copy of the proposed information collection instrument with instructions or additional information, please contact Christine Eith, (202) 305-4559, Bureau of Justice Statistics, 810 7th Street, NW., Washington, DC 20531.

To ensure that comments on the information collection are received, OMB recommends that written comments be faxed to the Office of Information and Regulatory Affairs, OMB, Attn: DOJ Desk Officer, Fax: 202 395-7285, or e-mailed to oira_submission@omb.eop.gov. All comments should be identified with the OMB control number [1121-0260]. Also include the DOJ docket number found in brackets in the heading of this document.

Written comments and suggestions from the public and affected agencies concerning the proposed collection of information should address one or more of the following four points: —Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Reinstatement, with change, of a previously approved collection for which approval has expired.

(2) The title of the form/collection: Police Public Contact Survey.

(3) The agency form number, if any, and the applicable component of the Department sponsoring the collection: PPCS-1. Bureau of Justice Statistics, Department of Justice.

(4) Affected public who will be asked or required to respond, as well as a brief abstract: Primary: Eligible individuals must be age 16 or older. Other: None.

The Police Public Contact Supplement fulfills the mandate set forth by the Violent Crime Control and Law Enforcement Act of 1994 to collect, evaluate, and publish data on the use of excessive force by law enforcement personnel. The survey will be conducted as a supplement to the National Crime Victimization Survey in all sample households for a six (6) month period.

(5) An estimate of the total number of respondents and the amount of time estimated for an average respondent to respond/reply: Approximately 15,117 respondents will be eligible for the PPCS each month from July to December 2011. Of the eligible 90,700 persons, we expect approximately 80 percent or 72,600 of the eligible persons will complete a PPCS interview. Of those persons interviewed for the PPCS, we estimate approximately 81.5 percent or 59,100 will complete only the first two (contact screener questions) survey questions. The estimated time to complete the control information on the PPCS form, read the introductory statement, and administer the first two contact screener questions to the respondents is approximately 2 minute per person. Furthermore, we estimate that the remaining 18.5 percent of the interviewed persons or 13,400 persons will report a face-to-face contact with the police during the 12 month reference period prior to the date of interview. The time to ask the detailed questions regarding the nature of the contact is estimated to take an average of 10 minutes. Respondents will be asked to respond to this survey only once during the six month period.

(6) An estimate of the total public burden (in hours) associated with the collection: The total estimated annual burden hours are 4,193 hours.

If additional information is required contact: Mrs. Lynn Murray, Department Clearance Officer, United States Department of Justice, Justice Management Division, Policy and Planning Staff, Two Constitution Square, 145 N Street, Suite 2E-502, Washington, DC 20530.

Dated: January 25, 2011.
Lynn Murray,
Department Clearance Officer, PRA, United States Department of Justice.

[FR Doc. 2011-1953 Filed 1-27-11; 8:45 am]

BILLING CODE 4410-18-P